LEGAL SERVICES CORPORATION

Sunshine Act Meeting of the Board of Directors Operations & Regulations Committee

Time and Date: The Operations & Regulations Committee of the Legal Services Corporation Board of Directors will meet on September 14, 2003. The meeting will begin at 2:30 p.m. and continue until the Committee concludes its agenda.

Location: The Melrose Hotel, 2430 Pennsylvania Avenue, NW., Washington, DC 20037.

Status of Meeting: Open.

Matters to be Considered:

1. Approval of agenda.

2. Approval of the Committee's meeting minutes of June 27, 2003.

3. Staff report on the responsibilities of LSC's Office of Compliance & Enforcement.

4. Staff reports on:

(a) LSC open rulemakings: 45 CFR parts 1604 (Outside Practice of Law); 1611 (Financial Eligibility); and 1626 (Alien Eligibility);

(b) Potential new rulemakings;

(c) Priorities for rulemakings; and

(d) Timeline for open and proposed rulemakings.

5. Public comment regarding:

(a) Status (as opposed to merits) of open rulemakings;

(b) Potential new rulemakings;

(c) Priorities for rulemakings; and

(d) Timeline for open and potential rulemakings.

6. Consider and act on open rulemakings.

7. Consider and act on potential new rulemakings.

8. Consider and act on priorities for rulemakings.

9. Consider and act on a timeline for open and proposed rulemakings.

10. Consider and act on a new Grant Assurance for 2004 regarding attorneys' fees in property recovery actions.

11. Other public comment.

12. Consider and act on other business.

13. Consider and act on adjournment of meeting.

FOR FURTHER INFORMATION CONTACT: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: September 5, 2003.
Victor M. Fortuno,
Vice President for Legal Affairs, General Counsel & Corporate Secretary.

[FR Doc. 03-23121 Filed 9-5-03; 4:13 pm]

BILLING CODE 7050-01-P